DEPARTMENT OF TRANSPORTATION

Federal Highway Administration

Notice of Final Federal Agency Actions on Proposed Highway Project in Missouri

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, Interstate Route I-29/I-35/U.S. Route 71 Corridor, Paseo Missouri River Bridge, from approximately 0.5 miles north of Missouri Route 210/Armour Road south to the northwest corner of the central business district loop in downtown Kansas City, in the Counties of Jackson and Clay, State of Missouri. Those actions grant licenses, permits, and approvals for the project.

DATES: By this notice the FHWA is advising the public of final agency actions subject to 23 U.S.C. 139(l)(1). A claim seeking judicial review of the Federal agency actions on the highway project will be barred unless the claim is filed on or before August 7, 2007. If the Federal law that authorizes judicial review of a claim provides a time period of less than 180 days for filing such claim, then that shorter time period still applies.

FOR FURTHER INFORMATION CONTACT: For FHWA: Ms. Peggy Casey, Environmental Projects Engineer, FHWA Missouri Division Office, 3220 West Edgewood, Suite H, Jefferson City, MO 65109, Telephone: (573) 638-2620, Office Hours 7:30 a.m. to 4:30 p.m. Central Standard Time, e-mail: peggy.casey@fhwa.dot.gov. For Missouri Department of Transportation: Mr. Kevin Keith, Chief Engineer, Missouri Department of Transportation, P.O. Box 270, Jefferson City, MO 65102, Telephone: (573) 751-2803, Office Hours 7:30 a.m. to 4 p.m. Central Standard Time, e-mail: kevin.keith@modot.mo.gov.

SUPPLEMENTARY INFORMATION: Notice is hereby given that the FHWA and other Federal agencies have taken final agency actions subject to 23 U.S.C. 139(l)(1) by issuing licenses, permits, and approvals for the following highway project in the State of Missouri. The project's selected alternative consists of reconstructing and widening the existing I-29/I-35 corridor roadway from the northern terminus approximately 0.5 miles north of Missouri Route 210/Armour Road to the southern terminus, a connection with the existing CBD freeway loop that encompasses downtown Kansas City. Included is the rehabilitation of the existing Paseo Bridge crossing which currently carries I-29/I-35/U.S. Route 71 over the Missouri River and constructing a new companion bridge or replacing the existing bridge with an entirely new structure or structures. This includes modifying the corridor's connection to the CBD loop and the connection of the Broadway Extension (U.S. Route 169) with the downtown street and freeway loop system. The northern side of the CBD loop designated as I-35/I-70/U.S. Routes 24/40 is included in the selected alternative. The actions by the Federal agencies, and the laws under which such actions were taken, are described in the Final Environmental Impact Statement (FEIS) for the project (FHWA-MO-EIS-06-01-F), approved on November 8, 2006; in the FHWA Record of Decision (ROD) issued on January 12, 2007; and in other documents in the FHWA project records. The FEIS, ROD, and other project records are available by contacting FHWA or the Missouri Department of Transportation at the addresses provided above. The FHWA FEIS and ROD can be viewed and downloaded from the project Web site http://www.modot.mo.gov/kansascity/major_projects/I-29,I-35%20EIS%20Location%20Study.htm; the FEIS can be viewed at public libraries in the project area.

This notice applies to all Federal agency decisions as of the issuance date of this notice and all laws under which such actions were taken, including but not limited to:

1. General: National Environmental Policy Act (NEPA), 42 U.S.C. 4321-4351; Federal-Aid Highway Act, 23 U.S.C. 109 and 23 U.S.C. 128.

2. Air: Clean Air Act, 42 U.S.C. 7401-7671q.

3. Land: Section 4(f) of the Department of Transportation Act of 1966, 49 U.S.C. 303; Landscaping and Scenic Enhancement (Wildflowers), 23 U.S.C. 319.

4. Wildlife: Endangered Species Act, 12 U.S.C. 1531-1544 and Section 1536; Fish and Wildlife Coordination Act, 16 U.S.C. 661-667(d); Migratory Bird Treaty Act, 16 U.S.C. 703-712.

5. Historic and Cultural Resources: Section 106 of the National Historic Preservation Act of 1966, as amended, 16 U.S.C. 470(f) et seq; Archaeological Resource Protection Act of 1977, 16 U.S.C. 470(aa)-470(ll); Archaeological and Historic Preservation Act, 16 U.S.C. 469-469(c); Native American Grave Protection and Repatriation Act (NAGPRA), 23 U.S.C. 3001-3013.

6. Social and Economic: Civil Rights Act of 1964, 42 U.S.C. 200(d)(1); American Indian Religious Freedom Act, 42 U.S.C. 1966; Farmland Protection Policy Act (FPPA), 7 U.S.C. 4201-4209.

7. Wetlands and Water Resources: Clean Water Act, Section 404, Section 401, Section 319, 33 U.S.C. 1251-1377; Land and Water Conservation Fund (LWCF), 16 U.S.C. 4601-4604; Safe Drinking Water Act (SDWA), 42 U.S.C. 300(f)-300(j)(6); Rivers and Harbors Act of 1899, 33 U.S.C. 401-406; Emergency Wetlands Resources Act, 16 U.S.C. 3921, 3931; Wetlands Mitigation, 23 U.S.C. 103(b)(6)(M) and 133(b)(11); Flood Disaster Protection Act, 42 U.S.C. 4001-4128.

8. Executive Orders: E.O. 11990 Protection of Wetlands; E.O. 11988 Floodplain Management; E.O.12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: February 1, 2007.
Peggy J. Casey,
Environmental Project Engineer, Jefferson City.

[FR Doc. E7-2074 Filed 2-7-07; 8:45 am]

BILLING CODE 4910-RY-P